FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 9, 2018.

A. Federal Reserve Bank of Chicago (Colette A. Fried, Assistant Vice President) 230 South LaSalle Street, Chicago, Illinois 60690-1414:

1. Julie J. Kaufmann, Harlan, Iowa, individually and as a group acting in concert with Joyce Buxton, Springfield, Missouri; Philip Buxton, Springfield, Missouri; Audrey Buxton, San Diego, California; Julie J. Kaufmann, Harlan, Iowa; Leo P. Kaufmann, Harlan, Iowa; Kayla Weis, Harlan, Iowa; Mary Hoch, Harlan, Iowa; Michael Kaufmann, Oak Park, Illinois; Randall Kaufmann, Lenexa, Kansas; James R. Randall and Linda Randall, jointly with rights of survivorship, Osceola, Iowa; James Michael Randall, Stilwell, Kansas; Jennifer J. Main, N. Charleston, South Carolina; Jay T. Randall, Dunlap, Iowa; Lynn J. Randall, Dunlap, Iowa; and the Estate of Richard Randall, Dunlap, Iowa; to retain shares of Dunlap Holding company and thereby retain shares of Community Bank, both of Dunlap, Iowa.

Board of Governors of the Federal Reserve System, April 16, 2018.
Ann Misback,
Secretary of the Board.

[FR Doc. 2018-08226 Filed 4-18-18; 8:45 am]

BILLING CODE P